DEPARTMENT OF COMMERCE

National Oceanic and Atmospheric Administration

15 CFR Part 930

[Docket No. 030604145-3145-01]

RIN 0648-AR16

Coastal Zone Management Act Federal Consistency Regulations

AGENCY: Office of Ocean and Coastal Resource Management (OCRM), National Ocean Service (NOS), National Oceanic and Atmospheric Administration (NOAA), Department of Commerce (DOC).

ACTION: Extension of public comment period.

SUMMARY: On June 11, 2003, The National Oceanic and Atmospheric Administration (NOAA) published a proposed rule to revise the Federal Consistency regulations under the Coastal Zone Management Act of 1972 (CZMA). 68 FR 34851-34874 (June 11, 2003). The public comment period was to expire on July 11, 2003. This document extends the public comment period on the proposed rule for an additional 45 days, until August 25, 2003.

DATES: Comments on the proposed rule must be received by August 25, 2003.

ADDRESSES: Please send comments as an attachment to an e-mail in either WordPerfect or MSWord, or in the body of an e-mail, to CZMAFC.ProposedRule@noaa.gov.

Written comments may be sent to David Kaiser, Federal Consistency Coordinator, Coastal Programs Division, Office of Ocean and Coastal Resource Management, NOAA, 1305 East-West Highway, 11th Floor, Silver Spring, MD 20910. Written comments may also be sent to this address.

All comments received by the comment deadline, this Federal Register notice, the Proposed rule as published in the Federal Register, and an underline-strikeout version of the sections of the regulations proposed to be revised are/will be posed at OCRM's Federal Consistency Web page at: http://coastalmanagement.noaa.gov/czm/federal_consistency.html.

FOR FURTHER INFORMATION CONTACT: David Kaiser, Federal Consistency Coordinator, OCRM/NOAA, 301-713-3155 ext. 144, david.kaiser@noaa.gov.

SUPPLEMENTARY INFORMATION: On June 11, 2003, The National Oceanic and Atmospheric Administration (NOAA) published a proposed rule to revise the Federal Consistency regulations under the Coastal Zone Management Act of 1972 (CZMA), as amended, 16 U.S.C. 1451-1465. 68 FR 34851-34874 (June 11, 2003). NOAA's proposed rule addresses the CZMA-related recommendations of the Report of the National Energy Policy Development Group (Energy Report) and seeks to improve the Federal Consistency regulations by providing greater clarity, transparency and predictability. The public comment period was to expire on July 11, 2003. During the comment period, NOAA received requests from numerous entities seeking an extension of the public comment period. Some requests asked for a 30-day extension, others sought either a 60-day or 90-day extension. NOAA has considered all comments regarding the length of the public comment period and has decided to extend the public comment period on the proposed rule for an additional 45 days. The deadline for the public to submit comments on the proposed rule now ends on August 25, 2003. NOAA does not anticipate any additional extensions of the public comment period for this proposed rule.

Dated: June 30, 2003.
Jamison S. Hawkins,
Deputy Assistant Administrator, Ocean Services and Coastal Zone Management, National Oceanic and Atmospheric Administration.

[FR Doc. 03-17033 Filed 7-3-03; 8:45 am]

BILLING CODE 3510-08-M